DEPARTMENT OF THE INTERIOR

National Park Service

[NPS-WASO-NRNHL-11779; 2200-3200-665]

National Register of Historic Places; Notification of Pending Nominations and Related Actions

Nominations for the following properties being considered for listing or related actions in the National Register were received by the National Park Service before November 17, 2012. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service,1201 Eye St. NW., 8th floor, Washington, DC 20005; or by fax, 202-371-6447. Written or faxed comments should be submitted by December 31, 2012. Before including your address, phone number, email address, or other personal identifying information in your comment, you should be aware that your entire comment—including your personal identifying information—may be made publicly available at any time. While you can ask us in your comment to withhold your personal identifying information from public review, we cannot guarantee that we will be able to do so.

Dated: November 21, 2012.
J. Paul Loether,
Chief, National Register of Historic Places/National Historic Landmarks Program.

ARIZONA

Pima County

Anderson, Arthur Olaf and Helen S., House, (Architecture and Planning of Josias Joesler and John Murphey in Tucson, Arizona MPS AD), 5505 N. Camino Escuela, Tucson, 12001101

Brown, Grace and Eliot, House, (Architecture and Planning of Josias Joesler and John Murphey in Tucson, Arizona MPS AD), 5025 N. Camino Escuela, Tucson, 12001102

Craig, Mr. and Mrs. George C., House, (Architecture and Planning of Josias Joesler and John Murphey in Tucson, Arizona MPS AD), 5005 N. Calle La Vela, Tucson, 12001103

DiCenso, Dr. Sabatino, House, (Architecture and Planning of Josias Joesler and John Murphey in Tucson, Arizona MPS AD), 5276 N. Camino Real,Tucson, 12001104

Goodman, John and Aline, House, (Architecture and Planning of Josias Joesler and John Murphey in Tucson, Arizona MPS AD), 4950 N. Calle Colmado, Tucson, 12001105

Remer, Ross T., House, (Architecture and Planning of Josias Joesler and John Murphey in Tucson, Arizona MPS AD), 4715 N. Camino Ocotillo, Tucson, 12001106

Wilson, Betty Jean, House, (Architecture and Planning of Josias Joesler and John Murphey in Tucson, Arizona MPS AD), 2322 E. Calle Lustre, Tucson, 12001107

Wollen, Herbert and Irma, House, (Architecture and Planning of Josias Joesler and John Murphey in Tucson, Arizona MPS AD), 4925 N. Camino Antonio, Tucson, 12001108

CALIFORNIA

San Diego County

La Jolla Post Office, (US Post Office in California 1900-1941 TR) 1040 Wall St., San Diego, 12001109

Solano County

USCGC STORIS (cutter), U.S. Maritime Administration National Defense Reserve Fleet, Suisun Bay, Benicia, 12001110

CONNECTICUT

Middlesex County

Eclectic House, The, 200 High St., Middletown, 12001111

ILLINOIS

Bureau County

Village Hall, 239 S. Main St., Sheffield, 12001112

Cook County

Neuville, The, 232 E. Walton Pl., Chicago, 12001113

Polish Roman Catholic Union of America, (Ethnic (European) Historic Settlement in the city of Chicago 1860-1930 MPS) 984 N. Milwaukee Ave., Chicago, 12001114

Vesta Accumulator Company Building, 2100 S. Indiana Ave., Chicago, 12001115

Pike County

Zoe Theatre, 209 N. Madison St., Pittsfield, 12001116

IOWA

Henry County

Camp Harlan—Camp McKean Historic District, 2260 Hickory Ave., Mount Pleasant, 12001117

KANSAS

Douglas County

Beni Israel Cemetery, 1301 E. 2100 Rd., Eudora, 12001118

Greenwood County

Eureka Atchison, Topeka and Santa Fe Railroad Depot, (Railroad Resources of Kansas MPS) 416 E. 5th St., Eureka, 12001119

Marshall County

Marysville High School—Junior High School Complex, (Public Schools of Kansas MPS) 1011-1111 Walnut St., Marysville, 12001120

Stafford County

Gray, William R., Photography Studio and Residence, 116 N. Main, St. John, 12001121

Thomas County

St. Thomas Hospital, (New Deal-Era Resources of Kansas MPS) 210 S. Range Ave., Colby, 12001122

Wyandotte County

Saint Margaret's Hospital, 263 S. 8th St., 759 Vermont Ave., Kansas City, 12001123

MISSOURI

Cole County

Hobo Hill Historic District, 500 blks. of E. Miller & Jackson Sts., Jefferson City, 12001124

St. Louis Independent City

Penrose Park Historic District, Bounded by I-70, Kingshighway Blvd., Newstead & Natural Bridge Aves., St. Louis (Independent City), 12001125

NEBRASKA

Sioux County

Agate Springs Ranch, Address Restricted, Harrison, 12001126

NEW JERSEY

Morris County

Church in the Glen, The, 2 Ledgewood Ave., Netcong, 12001127

NEW YORK

Erie County

Turner Brothers' Building—American Household Storage Company, 295 Niagara St., Buffalo, 12001128

Essex County

Ligonier Point Historic District, Point Rd., Ligonier Way, Willsboro, 12001129

Rensselaer County

Baum—Wallis Farmstead, (Farmsteads of Pittstown, New York MPS) 132 Baum Rd., Johnsonville, 12001130

Cannon—Brownell—Herrington Farmstead, (Farmsteads of Pittstown, New York MPS) 551 Otter Creek Rd., Johnsonville, 12001131

Halford—Hayner Farmstead, (Farmsteads of Pittstown, New York MPS) 346 Cooksboro Rd., Troy, 12001132

Westchester County

Downtown Ossining Historic District (Boundary Increase), Main St., Central & Croton Aves., Ossining, 12001133

TEXAS

Walker County

Austin Hall, 1741 University Ave., Huntsville, 12001134

VIRGINIA

Fredericksburg Independent City

Lewis Store, The, 1200 Caroline St., Fredericksburg (Independent City), 12001135

Montgomery County

Bowstring Truss Bridge, I-81, Ironto Rest Area, Ironto, 12001136

Rockingham County

Timberville Historic District, Bounded by Main, Bellevue, Montevideo, High, Church & S. C Sts., Maple Ave., Timberville, 12001137

WASHINGTON

King County

Fourth Church of Christ, Scientist, 1119 8th Ave., Seattle, 12001138

Pierce County

Puyallup Fish Hatchery, 1416 14th St., SW., Puyallup, 12001139

San Juan County

Moran State Park, 3572 Olga Rd., Olga, 12001140

WEST VIRGINIA

Hampshire County

Springfield Brick House, 12 Market St., Springfield, 12001141

[FR Doc. 2012-30172 Filed 12-13-12; 8:45 am]

BILLING CODE 4312-51-P